DEPARTMENT OF HEALTH AND HUMAN SERVICES

Health Resources and Services Administration

Discretionary Grant Program

AGENCY: Health Resources and Services Administration (HRSA), HHS.

ACTION: Notice of Noncompetitive Program Extension Supplemental Awards.

SUMMARY: HRSA will be providing extensions with funds ranging from 5 to 10 months to program grantees for the following programs in order to bring these programs into alignment with changes resulting from HRSA's Maternal and Child Health Bureau's developing strategic plan and the Early Learning and Development Initiative of the HHS and Department of Education. The programs are:

• Alliance for Information in Maternal and Child Health (AIM)

○ Improving Understanding of MCH—10 grants

○ Partnerships to Promote MCH—5 grants

• AIM Policy Center—1 grant

• Mental Health and Schools Resource Centers—2 grants

• Public Policy Analysis and Education Center for Early Childhood—1 grant

• National Healthy Child Care America Program

○ National Training Institute for Health Consultants—1 grant

○ Child Care Health Partnership Program—1 grant

○ Resource Center for Childcare Health and Safety—1 grant

• National Sudden and Unexpected Infant/Child Death and Pregnancy Loss Centers—3 grants

SUPPLEMENTARY INFORMATION:

Intended Recipients of the Award

The intended recipients are the incumbent grantees. They are either national membership organizations whose members impact maternal and child health programming or institutions of higher learning. They share a common purpose of providing education and technical assistance to either their individual members or State and community Maternal and Child Health programs.

Authority: Section 501(a) (3) of the Social Security Act, as amended

CFDA Number: 93.110.

Project Period: The period of supplemental support is from the grantee's original project end date through January 31, 2011. The periods range from 5 to 10 months.

Grantees and Amount of the Awards: See listing below.

HRSA Competition Name and Announcement Number: Organization Name | Grant number | Project period | FY 2009 authorized funding level | Revised project end date | Supplemental funding
Alliance for Information on Maternal and Child Health (AIM) Improving Understanding of Maternal and Child Health and Health Care Issues, HRSA-05-079
National Conference of State Legislatures | G96MC04443 | 1-May-05—30-Apr-10 | $200,000 | 31-Jan-11 | $150,000
National Conference of State Legislatures | G96MC04444 | 1-May-05—30-Apr-10 | $200,000 | 31-Jan-11 | $150,000
Association of State and Territorial Health Officials | G96MC04445 | 1-May-05—30-Apr-10 | $200,000 | 31-Jan-11 | $150,000
National Institute for Health Care Management | G96MC04446 | 1-May-05—30-Apr-10 | $200,000 | 31-Jan-11 | $150,000
National Business Group on Health | G96MC04447 | 1-May-05—30-Apr-10 | $200,000 | 31-Jan-11 | $150,000
Grantmakers in Health | G96MC04448 | 1-May-05—30-Apr-10 | $200,000 | 31-Jan-11 | $150,000
National Association of County and City Health Officials | G96MC04449 | 1-May-05—30-Apr-10 | $200,000 | 31-Jan-11 | $150,000
National Governors Association | G96MC04450 | 1-May-05—30-Apr-10 | $200,000 | 31-Jan-11 | $150,000
American Bar Association | G96MC04451 | 1-May-05—30-Apr-10 | $200,000 | 31-Jan-11 | $150,000
Grantmakers for Children, Youth and Families | G96MC04452 | 1-May-05—30-Apr-10 | $200,000 | 31-Jan-11 | $150,000
Alliance for Information on Maternal and Child Health (AIM) Partnerships to Promote Maternal and Child Health, HRSA-05-076
Family Voices, Inc. | G97MC04453 | 1-May-05—30-Apr-10 | $200,000 | 31-Jan-11 | $150,000
Today's Child Communications, Inc. | G97MC04454 | 1-May-05—30-Apr-10 | $200,000 | 31-Jan-11 | $150,000
American Academy of Pediatric Dentistry | G97MC04455 | 1-May-05—30-Apr-10 | $200,000 | 31-Jan-11 | $150,000
National Healthy Start Association, Inc. | G97MC04488 | 1-May-05—30-Apr-10 | $200,000 | 31-Jan-11 | $150,000
American Academy of Pediatrics | G97MC06336 | 1-May-05—30-Apr-10 | $200,000 | 31-Jan-11 | $150,000
Alliance for Information on Maternal and Child Health (AIM) Child and Adolescent Policy Support Center, HRSA-07-041
The Regents of the University of California | U45MC08263 | 1-Jul-07- 30-Jun-10 | $300,000 | 31-Jan-11 | $175,000
School Mental Health Program and Policy Analysis Centers, HRSA-05-034
University of Maryland, Baltimore | U45MC00174 | 1-Jul-05—30-Jun-10 | $400,000 | 31-Jan-11 | $233,333
The Regents of the University of California | U45MC00175 | 1-Jul-05—30-Jun-10 | $400,000 | 31-Jan-11 | $233,333
Public Policy Analysis and Education Center for Early Childhood Health Cooperative Agreement, HRSA-05-115
Columbia University | U05MC05056 | 1-Jul-05—30-Jun-10 | $350,000 | 31-Jan-11 | $204,167
National Healthy Child Care America Cooperative Agreement Program, HRSA-05-058
University of North Carolina at Chapel Hill | U46MC00003 | 1-Oct-97—31-Mar-10 | $350,000 | 31-Jan-11 | $291,667
American Academy of Pediatrics | U46MC04436 | 1-Apr-05—31-Mar-10 | $350,000 | 31-Jan-11 | $291,667
University of Colorado Health Sciences Center | U46MC09810 | 1-Apr-08—31-Mar-10 | $375,000 | 31-Jan-11 | $312,500
Sudden Infant Death Syndrome Cooperative Agreement Program, HRSA-05-100
Association of SIDS and Infant Mortality Programs | U48MC05548 | 1-Sep-05—31-Aug-10 | $200,000 | 31-Jan-11 | $83,333
The Sudden Infant Death Syndrome Alliance | U48MC05549 | 1-Sep-05—31-Aug-10 | $250,000 | 31-Jan-11 | $104,167
National SIDS Infant Death Resource Center, HRSA-07-040
Georgetown University | U48MC08717 | 1-Sep-07—31-Aug-10 | $350,000 | 31-Jan-11 | $145,833

FOR FURTHER INFORMATION CONTACT: David Heppel, Director, Division for Child, Adolescent and Family Health, Health Resources and Services Administration, Maternal and Child Health Bureau, 5600 Fishers Lane, Room 18A39, Rockville, MD 20857, 301.443.2250; dheppel@hrsa.gov.

Justification for the Exception to Competition

The reason for this exception is to allow sufficient time for the HRSA's Maternal and Child Health Bureau (MCHB) to align its fiscal resources and programmatic goals:

• With the developing Maternal and Child Health Strategic Plan and with HRSA and Departmental plans; and,

• With the Early Learning and Development Initiative of the Department of Health and Human Services and the Department of Education; and, to maintain during this transition period MCH programmatic support to the State and community MCH constituencies which currently are receiving technical assistance services from these MCHB grantees.

The activities listed in the previous paragraph will not be completed in time for the FY 2010 grant competition. The MCHB proposes, therefore, to extend into FY 2011 the project periods of those grants scheduled to conclude in FY 2010 in order to have a larger and more current grant competition in FY 2011 reflective of any and all programmatic changes resulting from the above referenced activities and actions. Delaying the competition into FY 2011 also allows the MCHB additional time to consult with and provide information to constituency groups about changes in program direction. Providing an extension with funds to these grantees through January 31, 2011, will ensure the provision of technical assistance to the affected MCH constituencies continues without disruption.

Dated: February 9, 2010.
Mary K. Wakefield,
Administrator.

[FR Doc. 2010-3886 Filed 2-25-10; 8:45 am]

BILLING CODE 4165-15-P